DEPARTMENT OF TRANSPORTATION

Federal Aviation Administration

14 CFR Part 39

[Docket No. FAA-2012-0886; Directorate Identifier 2008-SW-067-AD; Amendment 39-17738; AD 2014-03-01]

RIN 2120-AA64

Airworthiness Directives; Agusta S.p.A. Helicopters

AGENCY: Federal Aviation Administration (FAA), DOT.

ACTION: Final rule.

SUMMARY: We are adopting a new airworthiness directive (AD) for Agusta S.p.A. (Agusta) Model AB139 and AW139 helicopters with a certain wire strike protection system (WSPS) top cable cutter assembly installed. This AD requires reworking or replacing the top cable cutter assembly to increase clearance between the WSPS and the main rotor (M/R) blades and requires that the reworked or replaced part be marked at the end of the part number to reflect the field modification. This AD was prompted by a report of in-flight contact between the top cable-cutter assembly and two M/R blades. The actions of this AD are intended to prevent damage to the M/R blades and subsequent loss of helicopter control.

DATES: This AD is effective April 7, 2014.

The Director of the Federal Register approved the incorporation by reference of a certain document listed in this AD as of April 7, 2014.

ADDRESSES: For service information identified in this AD, contact Agusta, Via Giovanni Agusta, 520 21017 Cascina Costa di Samarate (VA), Italy, telephone 39 0331-229111, fax 39 0331-229605/222595, or at http://customersupport.agusta.com/technical_advice.php. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Sharon Miles, Aviation Safety Engineer, Regulations and Policy Group, Rotorcraft Directorate, FAA, 2601 Meacham Blvd., Fort Worth, TX 76137; telephone (817) 222-5110; email sharon.y.miles@faa.gov.

SUPPLEMENTARY INFORMATION:

Discussion

On August 29, 2012, at 77 FR 52270, the Federal Register published our notice of proposed rulemaking (NPRM), which proposed to amend 14 CFR part 39 by adding an AD that would apply to Agusta Model AB139 and AW139 helicopters with a WSPS top cable cutter assembly, part number (P/N) 423-83001-1, installed, which is part of the WSPS, P/N 4G9540F00211 or P/N 4G9540F00311. The NPRM proposed to require reworking or replacing the top cable cutter assembly to increase clearance between the WSPS and the M/R blades. The proposed requirements were intended to prevent damage to the M/R blades and subsequent loss of helicopter control.

On July 3, 2013, at 78 FR 40055, the Federal Register published our supplemental notice of proposed rulemaking (SNPRM), which proposed to revise some of the actions in the NPRM. The SNPRM proposed to require the same actions as the NPRM, but also proposed to require identifying the reworked or replaced top cable cutter assembly in a visible and permanent way by adding “BT 139-126 Rev./” or “FAA” at the end of the P/N.

The NPRM and the SNPRM were prompted by AD No. 2008-0148, dated August 5, 2008, issued by EASA, which is the Technical Agent for the Member States of the European Union. The EASA AD advises of an incident of in-flight contact between the top cable cutter assembly and two M/R blades. This condition, if not corrected, could cause damage to the rotor blades and lead to loss of control of the helicopter, EASA advises. EASA further notes that this unsafe condition is likely to occur in other helicopters of the same type design, so the EASA AD requires that top cable cutter assembly, P/N 423-830001-1, be reworked or replaced with a new unit, P/N 3G9506P01431.

Comments

We gave the public the opportunity to participate in developing this AD, but we received no comments on the SNPRM (78 FR 40055, July 3, 2013) or NPRM (77 FR 52270, August 29, 2012).

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs and that air safety and the public interest require adopting the AD requirements as proposed.

Related Service Information

We reviewed Agusta Bollettino Tecnico No. 139-126, dated June 20, 2008 (BT), which applies to Model AB139 and AW139 helicopters with certain serial-numbered WSPSs. The BT specifies, within 200 flight hours, reworking the top cable cutter assembly and marking it with “BT 139-126 Rev./” in a visible and permanent manner. EASA classified this BT as mandatory and issued AD No. 2008-0148 to ensure the continued airworthiness of these helicopters.

Costs of Compliance

We estimate that this AD affects about 39 helicopters of U.S. registry. We also estimate that it takes about 3 work-hours per helicopter to rework the top cable cutter assembly and to add “BT 139-126 Rev./” or “FAA” at the end of the part number, 1 work-hour to replace the top cable cutter assembly, and 1 work-hour to remove the WSPS upper installation. The average labor rate is $85 per work-hour. Required parts cost about $9,000 per helicopter to replace the cutter. Based on these figures, we estimate the cost of this AD on U.S. operators to be $255 per helicopter to rework the top cable cutter assembly, $9,085 per helicopter to replace the top cable cutter assembly, and $85 per helicopter to remove the WSPS.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-03-01 Agusta S.p.A. Helicopters: Amendment 39-17738; Docket No. FAA-2012-0886; Directorate Identifier 2008-SW-067-AD.

(a) Applicability

This AD applies to Agusta Model AB139 and AW139 helicopters, with a wire strike protection system (WSPS) top cable cutter assembly, part number (P/N) 423-83001-1, installed, which is part of the WSPS, P/N 4G9540F00211 or P/N 4G9540F00311, certificated in any category.

(b) Unsafe Condition

This AD defines the unsafe condition as in-flight contact between the top cable cutter assembly and main rotor (M/R) blades. This condition could result in damage to the M/R blades and subsequent loss of helicopter control.

(c) Effective Date

This AD becomes effective April 7, 2014.

(d) Compliance

You are responsible for performing each action required by this AD within the specified compliance time unless it has already been accomplished prior to that time.

(e) Required Actions

(1) Within 200 hours time-in-service, remove the WSPS upper installation, P/N 4G9540A00111, including top cable cutter assembly, P/N 423-83001-1.

(2) Before installing a WSPS upper installation, P/N 4G9540A00111, either:

(i) Rework the top cable cutter assembly, P/N 423-83001-1, in accordance with the Compliance Instructions, paragraph 3.1 through 3.5, and Figure 1 of Agusta Bolletino Technico No. 139-126, dated June 20, 2008. Re-identify the top cable cutter assembly in a visible and permanent way by adding “BT 139-126 Rev./” or “FAA” at the end of the part number; or

(ii) Replace the top cable cutter assembly, P/N 423-83001-1, with an airworthy top cable cutter assembly that has been reworked and re-identified in accordance with paragraph (e)(2)(i) of this AD.

(3) Do not install a top cable cutter assembly, P/N 423-83001-1, on any helicopter unless it has been reworked and re-identified in accordance with paragraph (e)(2)(i) of this AD.

(f) Alternative Methods of Compliance (AMOCs)

(1) The Manager, Safety Management Group, FAA, may approve AMOCs for this AD. Send your proposal to: Sharon Miles, Aviation Safety Engineer, Regulations and Policy Group, Rotorcraft Directorate, FAA, 2601 Meacham Blvd., Fort Worth, TX 76137; telephone (817) 222-5110; email sharon.y.miles@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2008-0148, dated August 5, 2008. You may view the EASA AD on the Internet at http://www.regulations.gov in Docket No. FAA-2012-0886.

(h) Subject

Joint Aircraft Service Component (JASC) Code: 5320: Fuselage Miscellaneous Structure.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Agusta Bolletino Technico No. 139-126, dated June 20, 2008.

(ii) Reserved.

(3) For Agusta service information identified in this AD, contact Agusta, Via Giovanni Agusta, 520 21017 Cascina Costa di Samarate (VA), Italy, telephone 39 0331-229111, fax 39 0331-229605/222595, or at http://customersupport.agusta.com/technical_advice.php.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 24, 2014.
Kim Smith,
Directorate Manager, Rotorcraft Directorate, Aircraft Certification Service.

[FR Doc. 2014-02153 Filed 2-28-14; 8:45 am]

BILLING CODE 4910-13-P